DEPARTMENT OF LABOR

Employment and Training Administration

[TA-W-55,873]

Santee Print Works, Sumter, SC; Notice of Termination of Investigation

Pursuant to Section 221 of the Trade Act of 1974, an investigation was initiated on October 27, 2004 in response to petition filed by a company official on behalf of workers at Santee Print Works, Sumter, South Carolina.

The petitioner has requested that the petition be withdrawn. Consequently, further investigation in this case would serve no purpose, and the investigation has been terminated.

Signed in Washington, DC, this 18th day of November, 2004.
Richard Church,
Certifying Officer, Division of Trade Adjustment Assistance.

[FR Doc. E4-3370 Filed 11-29-04; 8:45 am]

BILLING CODE 4510-30-P